DEPARTMENT OF TRANSPORTATION

Federal Aviation Administration

14 CFR Part 39

[Docket No. FAA-2006-24639; Directorate Identifier 2005-NM-171-AD]

RIN 2120-AA64

Airworthiness Directives; Honeywell RCZ-833J/K, -851J/K, and -854J Communication (COM) Units, Equipped With XS-852E/F Mode S Transponders; and Honeywell XS-856A/B and -857A Mode S Transponders; Installed on But Not Limited to Certain Transport Category Airplanes

AGENCY: Federal Aviation Administration (FAA), Department of Transportation (DOT).

ACTION: Notice of proposed rulemaking (NPRM).

SUMMARY: The FAA proposes to adopt a new airworthiness directive (AD) for certain Honeywell COM units and transponders, installed on but not limited to certain transport category airplanes. This proposed AD would require a revision to the Normal Procedures section of the Airplane Flight Manual to advise the flightcrew to check the status of the transponder after changing the air traffic control (ATC) code. This proposed AD would also require replacing certain identification plate(s) with new plate(s), testing certain COM units or transponders as applicable, and corrective action if necessary. For certain airplanes, this proposed AD would require replacing the transponders of certain COM units with new or modified transponders. For certain other airplanes, this proposed AD would require installing a modification into certain transponders. This proposed AD results from the transponder erroneously going into standby mode if the flightcrew takes longer than five seconds when using the rotary knob of the radio management unit to change the ATC code. We are proposing this AD to prevent the transponder of the COM unit from going into standby mode, which could increase the workload on the flightcrew and result in improper functioning of the traffic alert and collision avoidance system.

DATES: We must receive comments on this proposed AD by June 19, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Go to https://pubs.cas.honeywell.com/ or contact Honeywell International Inc., Commercial Electronic Systems, 5353 West Bell Road, Glendale, Arizona 85308-3912, for the service information identified in this proposed AD.

FOR FURTHER INFORMATION CONTACT: Abby Malmir, Aerospace Engineer, Systems and Equipment Branch, ANM-130L, FAA, Los Angeles Aircraft Certification Office, 3960 Paramount Boulevard, Lakewood, California 90712-4137; telephone (562) 627-5351; fax (562) 627-5210.

SUPPLEMENTARY INFORMATION:

Comments Invited

We invite you to submit any relevant written data, views, or arguments regarding this proposed AD. Send your comments to an address listed in the ADDRESSES section. Include the docket number “FAA-2006-24639; Directorate Identifier 2005-NM-171-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received a report indicating that the transponder erroneously goes into standby mode if the flightcrew takes longer than five seconds when using the rotary knob of the radio management unit to change the air traffic control (ATC) code. (This error will not occur if the keyboard is used to change the ATC code.) This error occurs on certain Honeywell RCZ communication (COM) units that contain elementary surveillance transponders. When the transponder goes into standby mode, the secondary surveillance radar (SSR) symbol and the airplane's position disappear from the ATC ground radar display. Also, the traffic alert and collision avoidance systems (TCAS) onboard the airplane and other nearby airplanes are compromised. Current operational procedures typically do not instruct the flightcrew to re-check the transponder status after changing the ATC code. The transponder erroneously going into standby mode, if not corrected, could increase the workload on the flightcrew and result in improper functioning of the TCAS.

Relevant Service Information

We have reviewed Honeywell Alert Service Bulletin 7510700-23-A0048, dated January 27, 2006; and Honeywell Alert Service Bulletin 7517400-23-A0017, dated January 23, 2006.

For COM units RCZ-833J part numbers (P/Ns) 7510700-763 and -863; RCZ-833K P/Ns 7510700-765 and -875; RCZ-851J P/N 7510700-813; RCZ-851K P/N 7510700-815; and RCZ-854J P/Ns 7510700-725 and -825, Honeywell Alert Service Bulletin 7510700-23-A0048 describes doing the following procedures:

• Replacing the product signature plate, identification plate, and modification plate with new plates.

• Marking all the modifications installed in the COM unit on the new modification plate.

• Testing the COM unit.

• Reporting certain information to the manufacturer.

Honeywell Alert Service Bulletin 7510700-23-A0048 also specifies prior or concurrent accomplishment of Honeywell Alert Service Bulletin 7510700-23-A0047, Revision 001, dated July 29, 2005.

Honeywell Alert Service Bulletin 7510700-23-A0047 describes procedures for installing MOD AT into the COM unit and testing the COM unit. MOD AT involves replacing the XS-852E/F mode S transponder, P/N 7517400-911 or -912, of the applicable COM unit with a new or modified XS-852E/F mode S transponder that has MOD V installed. Honeywell Alert Service Bulletin 7510700-23-A0047 also refers to Honeywell Alert Service Bulletin 7517400-23-A6015, Revision 001, dated July 29, 2005, as an additional source of service information for modifying the XS-852E/F mode S transponder by installing MOD V into the transponder.

For mode S transponders XS-856A P/Ns 7517400-865 and -885; XS-856B P/Ns 7517400-866 and -886; and XS-857A P/Ns 7517400-876 and -896, Honeywell Alert Service Bulletin 7517400-23-A0017 describes doing the following procedures:

• Replacing the modification plate of the transponder with a new plate.

• Marking all the modifications installed in the transponder on the new modification plate of the transponder.

• Testing the transponder.

• Reporting certain information to the manufacturer.

Honeywell Alert Service Bulletin 7517400-23-A0017 also specifies prior or concurrent accomplishment of Honeywell Alert Service Bulletin 7517400-23-A6016, dated August 30, 2005. Honeywell Alert Service Bulletin 7517400-23-A6016 describes procedures for installing MOD Y into the transponder and testing the transponder.

Accomplishing the actions specified in the service information is intended to adequately address the unsafe condition.

FAA's Determination and Requirements of the Proposed AD

We have evaluated all pertinent information and identified an unsafe condition that is likely to exist or develop on other products of this same type design. For this reason, we are proposing this AD, which would require revising the Normal Procedures section of the applicable Airplane Flight Manual to advise the flightcrew to check the status of the transponder after changing the ATC code. This AD would also require accomplishing the actions specified in the service information described previously, except as discussed under “Differences Between Proposed AD and Service Bulletins.”

Differences Between Proposed AD and Service Bulletins

Service Bulletin 7510700-23-A0048 recommends testing certain COM units; however, the service bulletin does not specify what corrective action to take if the COM unit fails the test. This proposed AD would require, before further flight after the test, reinstalling MOD V into the transponder of the COM unit, in accordance with Service Bulletin 7517400-23-A6015.

Service Bulletin 7517400-23-A0017 recommends testing certain transponders; however, the service bulletin does not specify what corrective action to take if the transponder fails the test. This proposed AD would require, before further flight after the test, reinstalling MOD Y into the transponder, in accordance with Service Bulletin 7517400-23-A6016.

Operators should note that, although the Accomplishment Instructions of the referenced service bulletins describe procedures for submitting a comment sheet related to service bulletin quality and a sheet recording compliance with the service bulletin, this proposed AD would not require those actions.

Costs of Compliance

There are about 1,365 airplanes of the affected design in the worldwide fleet. This proposed AD would affect about 1,023 airplanes of U.S. registry. Of those airplanes, about 603 airplanes are equipped with RCZ-833J/K, -851J/K, or 854J COM units and about 420 airplanes are equipped with XS-856A/B or -857A mode S transponders. The following table provides the estimated costs, at an average labor rate of $80 per hour, for U.S. operators to comply with this proposed AD.

Estimated Costs
Action | Work hours | Parts | Cost per airplane | Number of U.S.-registered airplanes | Fleet cost
AFM revision | 1 | None | $80 | 1,023 | $81,840.
Part identification, testing, and replacement for RCZ-833J/K, -851J/K, and -854J COM units | 3 | $35 | $275 | 603 | $165,825.
Part identification, testing, and installation of software for XS-856A/B and -857A mode S transponders | 3 to 8 ¹ | $175 | $415 to $815 ¹ | 420 | $174,300 to $342,300.¹
¹ Depending on test procedure.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Honeywell International, Inc.: Docket No. FAA-2006-24639; Directorate Identifier 2005-NM-171-AD.

Comments Due Date

(a) The FAA must receive comments on this AD action by June 19, 2006.

Affected ADs

(b) None.

Applicability

(c) This AD applies to the Honeywell parts identified in paragraphs (c)(1) and (c)(2) of this AD, approved under Technical Standard Order TSO-C112, installed on but not limited to Bombardier Model BD-700-1A10 and BD-700-1A11 airplanes; Cessna Model 550 and 560 airplanes; Cessna Model 650 airplanes; Dassault Model Mystere-Falcon 900 and Falcon 900EX airplanes; Dassault Model Falcon 2000 and Falcon 2000EX airplanes; EMBRAER Model EMB-135BJ, -135ER, -135KE, -135KL, and -135LR airplanes; EMBRAER Model EMB-145, -145ER, -145MR, -145LR, -145XR, -145MP, and -145EP airplanes; Learjet Model 45 airplanes; Lockheed Model 282-44A-05 (C-130B) airplanes; Lockheed Model 382G series airplanes; Raytheon Model Hawker 800 (including variant U-125A), 800XP, and 1000 airplanes; certificated in any category.

(1) Communication (COM) unit RCZ-833J part numbers (P/Ns) 7510700-763 and -863; RCZ-833K P/Ns 7510700-765 and -875; RCZ-851J P/N 7510700-813; RCZ-851K P/N 7510700-815; and RCZ-854J P/Ns 7510700-725, and -825.

(2) Mode S transponder XS-856A P/Ns 7517400-865 and -885; XS-856B P/Ns 7517400-866 and -886; and XS-857A P/Ns 7517400-876 and -896.

Unsafe Condition

(d) This AD results from the transponder erroneously going into standby mode if the flightcrew takes longer than five seconds when using the rotary knob of the radio management unit to change the air traffic control code. We are issuing this AD to prevent the transponder of the COM unit from going into standby mode, which could increase the workload on the flightcrew and result in improper functioning of the traffic alert and collision avoidance system.

Compliance

(e) You are responsible for having the actions required by this AD performed within the compliance times specified, unless the actions have already been done.

Airplane Flight Manual (AFM) Revision

(f) For all airplanes: Within 5 days after the effective date of this AD, revise the Normal Procedures section of the applicable AFM to include the following statement:

“After completion of any 4096 ATC Code change (also referred to as Mode A Code), check the status of the transponder. If the transponder indicates that it is in standby mode, re-select the desired mode (i.e., the transponder should be in the active mode).”

This may be done by inserting a copy of this AD in the AFM. Accomplishing the actions specified in paragraph (h) or (j), as applicable, of this AD terminates the requirement of this paragraph.

Replacement of Identification Plates for Certain COM Units

(g) For airplanes equipped with any COM unit identified in paragraph (c)(1) of this AD: Within 18 months after the effective date of this AD, replace the product signature plate, identification plate, and MOD plate of the COM unit with new plates and test the COM unit, in accordance with the Accomplishment Instructions of Honeywell Alert Service Bulletin 7510700-23-A0048, dated January 27, 2006. If the COM unit fails the test, before further flight, reinstall MOD V into the transponder of the COM unit in accordance with Honeywell Alert Service Bulletin 7517400-23-A6015, Revision 001, dated July 29, 2005.

Replacement of Certain Transponders

(h) For airplanes equipped with any COM unit identified in paragraph (c)(1) of this AD: Before or concurrently with the actions required by paragraph (g) of this AD, replace the XS-852E/F mode S transponder of the COM unit with a new or modified XS-852E/F mode S transponder that has MOD V installed, in accordance with Honeywell Alert Service Bulletin 7510700-23-A0047, Revision 001, dated July 29, 2005. After accomplishing the replacement required by this paragraph, the AFM revision required by paragraph (f) of this AD may be removed from the AFM.

Note 1: Honeywell Alert Service Bulletin 7510700-23-A0047, Revision 001, dated July 29, 2005, refers to Honeywell Alert Service Bulletin 7517400-23-A6015, Revision 001, dated July 29, 2005, as an additional source of service information for installing MOD V into an XS-852E/F mode S transponder.

Replacement of Identification Plate for Certain Transponders

(i) For airplanes equipped with any transponder identified in paragraph (c)(2) of this AD: Within 18 months after the effective date of this AD, replace the modification plate of the transponder with a new plate and test the transponder, in accordance with the Accomplishment Instructions of Honeywell Alert Service Bulletin 7517400-23-A0017, dated January 23, 2006. If the transponder fails the test, before further flight, reinstall MOD Y into the transponder as specified in paragraph (j) of this AD.

Installation of MOD Y Into Certain Transponders

(j) For airplanes equipped with any transponder identified in paragraph (c)(2) of this AD: Before or concurrently with the actions required by paragraph (i) of this AD, install MOD Y into the applicable mode S transponder, in accordance with the Accomplishment Instructions of Honeywell Alert Service Bulletin 7517400-23-A6016, dated August 30, 2005. After accomplishing the replacement required by this paragraph, the AFM revision required by paragraph (f) of this AD may be removed from the AFM.

Parts Installation

(k) For all airplanes: As of the effective date of this AD, no person may install any part identified in paragraph (c)(1) or (c)(2) on any airplane, unless the applicable software modification has been installed in the transponder in accordance with paragraph (h) or (j) of this AD, as applicable.

No Reporting Requirement

(l) Although the service bulletins referenced in this AD specify to submit certain information to the manufacturer, this AD does not include that requirement.

Alternative Methods of Compliance (AMOCs)

(m)(1) The Manager, Los Angeles Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on April 25, 2006.
Ali Bahrami,
Manager, Transport Airplane Directorate, Aircraft Certification Service.

[FR Doc. E6-6651 Filed 5-2-06; 8:45 am]

BILLING CODE 4910-13-P